DEPARTMENT OF THE INTERIOR

National Park Service

[NPS-WASO-NRNHL-13508; PPWOCRADI0, PCU00RP14.R50000]

National Register of Historic Places; Notification of Pending Nominations and Related Actions

Nominations for the following properties being considered for listing or related actions in the National Register were received by the National Park Service before July 06, 2013. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by August 13, 2013. Before including your address, phone number, email address, or other personal identifying information in your comment, you should be aware that your entire comment—including your personal identifying information—may be made publicly available at any time. While you can ask us in your comment to withhold your personal identifying information from public review, we cannot guarantee that we will be able to do so.

Dated: July 15, 2013.
Alexandra Lord,
Acting Chief, National Register of Historic Places/National Historic Landmarks Program.

ARIZONA

Maricopa County

Kirkland—McKinney Ditch, 1400 & 1500 blks., E. 8th St., Tempe, 13000604

COLORADO

Kiowa County

Crow—Hightower House, 909 Maine St., Eads, 13000605

Eads Community Church, 110 E. 11th St., Eads, 13000606

Eads School Gymnasium, W. 10th & Slater Sts., Eads, 13000607

Hotel Holly—Haswell Hotel, 200 4th St., Haswell, 13000608

GEORGIA

Brooks County

Liberty Baptist Church, Liberty Church Rd., Grooverville, 13000609

NEW YORK

Otsego County

Hartwick Historic District, Roughly NY 205, Cty Rd. 11 & Weeks Rd., Hartwick, 13000610

Old Hartwig Village Cemetery, 2862 Cty. Rd. 11, Hartwick, 13000611

TEXAS

Tarrant County

Sealy, J.L., Building, 801 S. Main St., Fort Worth, 13000612

Travis County

Cranfill Apartments, 1909 Cliff St., Building B, Austin, 13000613

Seaholm Power Plant, 800 W. Cesar Chavez St., Austin, 13000614

Williamson County

Olive Street Historic District, Olive St. between E. University Ave. & 17th St. plus a portion of E. 15th St., Georgetown, 13000615

[FR Doc. 2013-18067 Filed 7-26-13; 8:45 am]

BILLING CODE 4312-51-P